DEPARTMENT OF EDUCATION

Applications for New Awards; Research Networks Focused on Critical Problems of Education Policy and Practice, and Transformative Research in the Education Sciences

AGENCY: Institute of Education Sciences, Department of Education.

ACTION: Notice.

SUMMARY: The Department of Education (Department) is issuing a notice inviting applications for new awards for fiscal year (FY) 2021 for the Research Networks Focused on Critical Problems of Education Policy and Practice, and the Transformative Research in the Education Sciences Grant Programs, Assistance Listing Numbers 84.305N and 84.305T. This notice relates to the approved information collection under OMB control number 4040-0001.

DATES: Applications Available: December 17, 2020. Deadline for Transmittal of Applications: February 25, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: For the Research Networks Focused on Critical Problems of Education Policy and Practice competition (84.305N): Meredith Larson. Telephone: (202) 245-7037. Email: Meredith.Larson@ed.gov. For the Transformative Research in the Education Sciences competition (84.305T): Erin Higgins. Telephone: (202) 706-8509. Email: Erin.Higgins@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Through the National Center for Education Research (NCER), the Institute of Education Sciences (Institute) provides support for programs of research in areas of demonstrated national need. The Institute's research grant programs are designed to provide interested individuals and the general public with reliable and valid information about education practices that support learning and improve academic achievement and access to education opportunities for all learners.

Through the Research Networks Focused on Critical Problems of Education Policy and Practice grant program, NCER focuses resources and attention on specific education problems or issues that are a high priority for the Nation, and establishes both a structure and process for researchers who are working on these issues to share ideas, build new knowledge, and strengthen their research and dissemination capacity. The Institute is establishing both the Adult Skills Network and the Digital Learning Platforms Network to fulfill the requirements in section 133(c)(1) of the Education Sciences Reform Act of 2002 for national research and development centers.

Through the Transformative Research in the Education Sciences grant program, NCER intends to support innovative or unconventional research that has the potential to lead to new scientific paradigms, new and more effective approaches to education practice or policy, or transformative technologies that substantially increase learner outcomes.

Competitions in This Notice: The Institute's NCER is announcing two competitions—one competition in research networks and one competition in transformative research.

Research Networks Focused on Critical Problems of Education Policy and Practice. Under this competition, NCER will consider only applications that address one of the following topics:

• Adult Skills Network, which includes:

○ Network Lead.

○ Research Teams.

• Digital Learning Platforms Network, which includes:

○ Network Lead.

○ Platform Development Teams.

Transformative Research in the Education Sciences. Under this competition, NCER will consider only applications that demonstrate the potential to produce a major impact in an area relevant to the Institute's mission through innovative or unconventional research.

Exemption from Proposed Rulemaking: Under section 191 of the Education Sciences Reform Act, 20 U.S.C. 9581, the Institute is not subject to section 437(d) of the General Education Provisions Act, 20 U.S.C. 1232(d), and is therefore not required to offer interested parties the opportunity to comment on priorities, selection criteria, definitions, and requirements.

Program Authority: 20 U.S.C. 9501 et seq.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, and 75.708. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

Note: The open licensing requirement in 2 CFR 3474.20 does not apply for these competitions.

Note: Projects must be awarded and operated in a manner consistent with the nondiscrimination requirements contained in the U.S. Constitution and the Federal civil rights laws.

II. Award Information

Types of Awards: Cooperative agreements.

Fiscal Information: Although Congress has not yet enacted an appropriation for FY 2021, the Institute is inviting applications for these competitions now so that applicants can have adequate time to prepare their applications. The actual level of funding, if any, depends on final congressional action.

Estimated Range of Awards: For the Research Networks Focused on Critical Problems of Education Policy and Practice competition (84.305N): $1,000,000 to $3,800,000. For the Transformative Research in the Education Sciences competition (84.305T): $500,000 to $3,000,000. The size of the awards will depend on the type and scope of the projects proposed.

Estimated Number of Awards: The number of awards made under each competition will depend on the quality of the applications received, the availability of funds, and the following limits on awards for the Research Networks Focused on Critical Problems of Education Policy and Practice competition.

The Institute may waive any of the following limits on awards for Research Networks Focused on Critical Problems of Education Policy and Practice competition in the special case that the peer review process results in a tie between two or more grant applications, making it impossible to adhere to the limits without funding only some of the equally ranked applications. In that case, the Institute may make a larger number of awards to include all applications of the same rank.

For the Research Networks Focused on Critical Problems of Education Policy and Practice competition, we intend to fund up to six grants for research teams and one grant for the network lead under the Adult Skills topic; and we intend to fund up to five grants for platform development teams and one grant for the network lead under the Digital Learning Platforms topic. However, should funding be available, we may consider making additional awards to high-quality applications that remain unfunded after these maximum limits are met.

For both competitions, contingent on the availability of funds and the quality of applications, we may make additional awards in FY 2022 from the list of highly rated unfunded applications from the FY 2021 competitions.

Note: The Department is not bound by any estimates in this notice.

Project Period: Up to 60 months.

III. Eligibility Information

1. Eligible Applicants: Applicants that have the ability and capacity to conduct scientifically valid research are eligible to apply. These include, but are not limited to, nonprofit and for-profit organizations and public and private agencies and institutions of higher education, such as colleges and universities.

If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: These competitions do not require cost sharing or matching.

b. Indirect Cost Rate Information. This program uses a restricted indirect cost rate. For more information regarding indirect costs, or to obtain a negotiated indirect cost rate, please see www2.ed.gov/about/offices/list/ocfo/intro.html.

3. Subgrantees: Under 34 CFR 75.708(b) and (c) a grantee under this competition may award subgrants—to directly carry out project activities described in its application—to the following types of entities: Nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Other Information: Information regarding program and application requirements for the competitions will be contained in the NCER Requests for Applications (RFAs), which will be available on or before December 3, 2020 on the Institute's website at: https://ies.ed.gov/funding/. Application packages for these competitions will be available on or before December 17, 2020.

3. Content and Form of Application Submission: Requirements concerning the content of an application are contained in the RFA for the specific competition. The forms that must be submitted are in the application package for the specific competition.

4. Submission Deadline: February 25, 2021 11:59:59 p.m. Eastern Time.

We do not consider an application that does not comply with the deadline requirements.

5. Intergovernmental Review: These competitions are not subject to Executive Order 12372 and the regulations in 34 CFR part 79.

6. Funding Restrictions: We reference regulations outlining funding restrictions in the Applicable Regulations section of this notice.

V. Application Review Information

1. Selection Criteria: For all of its grant competitions, the Institute uses selection criteria based on a peer-review process that has been approved by the National Board for Education Sciences. The Peer Review Procedures for Grant Applications can be found on the Institute's website at https://ies.ed.gov/director/sro/peer_review/application_review.asp.

For the 84.305N competition, peer reviewers will be asked to evaluate the significance of the application; the quality of the research plan, platform development plan, or network lead plan (depending on the topic and type of application); the qualifications and experience of the personnel; the resources of the applicant to support the proposed activities; and the quality of the dissemination history and dissemination plan if the application is for the Research Teams under the Adult Skills Network. These criteria are described in greater detail in the RFA.

For the 84.305T competition, peer reviewers will be asked to evaluate the significance of the transformative idea, the quality and logic of the research approach, the quality and achievability of the deliverables and metrics, the quality and appropriateness of the personnel, the quality and availability of resources, and the quality and relevance of the dissemination history and plan. These criteria are described in greater detail in the RFA.

For all of the Institute's competitions, applications should include budgets no higher than the relevant maximum award as set out in the relevant RFA. For the Research Networks Focused on Critical Problems of Education Policy and Practice competition, the maximum awards for the Adult Skills Network are $3,800,000 for the research team grants and $3,000,000 for the network lead grant; and the maximum awards for the Digital Learning Platforms Network are $2,000,000 for the platform development team grants and $3,000,000 for the network lead grant.

2. Review and Selection Process: We remind potential applicants that in reviewing applications in any discretionary grant competition, the Institute may consider, under 34 CFR 75.217(d)(3), the past performance of the applicant in carrying out a previous award, such as the applicant's use of funds, achievement of project objectives, and compliance with grant conditions. The Institute may also consider whether the applicant failed to submit a timely performance report or submitted a report of unacceptable quality.

In addition, in making a competitive grant award, the Institute also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under these competitions, the Department conducts a review of the risks posed by applicants. Under 2 CFR 3474.10, the Institute may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual 3-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Institute. If you receive a multiyear award, you must submit an annual performance report that provides the most current performance and financial expenditure information as directed by the Institute under 34 CFR 75.118. The Institute may also require more frequent performance reports under 34 CFR 75.720(c). For specific requirements on reporting, please go to www.ed.gov/fund/grant/apply/appforms/appforms.html.

5. Performance Measures: To evaluate the overall success of its education research grant programs, the Institute annually assesses the percentage of projects that result in peer-reviewed publications and the number of Institute-supported interventions with evidence of efficacy in improving learner education outcomes. These measures were established for the Government Performance and Results Act of 1993 (GPRA).

6. Continuation Awards: In making a continuation award under 34 CFR 75.253, the Institute considers, among other things: Whether a grantee has made substantial progress in achieving the goals and objectives of the project; whether the grantee has expended funds in a manner that is consistent with its approved application and budget; and, if the Institute has established performance measurement requirements, whether the grantee has met the performance targets in the grantee's approved application.

In making a continuation award, the Institute also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the appropriate program contact person listed under FOR FURTHER INFORMATION CONTACT, individuals with disabilities can obtain this document and a copy of the RFA in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2020-25665 Filed 11-19-20; 8:45 am]

BILLING CODE 4000-01-P